DEPARTMENT OF COMMERCE

International Trade Administration

[C-533-829]

Prestressed Concrete Steel Wire Strand From India: Final Results of Expedited Sunset Review of Countervailing Duty Order

AGENCY: Enforcement and Compliance, International Trade Administration, Department of Commerce.

SUMMARY: As a result of this sunset review, the Department of Commerce (Commerce) finds that revocation of the countervailing duty (CVD) order on prestressed concrete steel wire strand (PC strand) from India would be likely to lead to continuation or recurrence of a countervailable subsidy at the level indicated in the “Final Results of Review” section of this notice.

DATES: Applicable June 29, 2020.

FOR FURTHER INFORMATION CONTACT: Benjamin Smith, AD/CVD Operations, Office Ill, Enforcement and Compliance, International Trade Administration, U.S. Department of Commerce, 1401 Constitution Avenue NW, Washington, DC 20230; telephone: (202) 482-2181.

SUPPLEMENTARY INFORMATION:

Background

On February 4, 2004, Commerce published the Order on PC strand in the Federal Register.¹ On March 2, 2020, Commerce initiated the third sunset review of the Order pursuant to section 751(c)(2) of the Tariff Act of 1930, as amended (the Act), and 19 CFR 351.218(c).² On March 13, 2020, Commerce received a timely notification of intent to participate from Insteel Wire Products Company, Strand-Tech Manufacturing, Inc., Sumiden Wire Products Corporation, and Wire Mesh Corp. (collectively, domestic interested parties), filed in accordance with 19 CFR 351.218(d)(l)(i).³ The domestic interested parties claimed interested party status under section 771(9)(C) of the Act, as domestic producers of PC strand.

¹ See Notice of Countervailing Duty Order: Prestressed Concrete Steel Wire Strand from India, 69 FR 5319 (February 4, 2004) (Order).

² See Initiation of Five-Year (Sunset) Reviews, 85 FR 12253 (March 2, 2020) (Initiation).

³ See Domestic Interested Parties' Letter, “Prestressed Concrete Steel Wire Strand from India—Domestic Interested Parties' Notice of Intent to Participate,” dated March 13, 2020.

On March 30, 2020, Commerce received adequate substantive responses to the Initiation from the domestic interested parties within the 30-day period specified in 19 CFR 351.218(d)(3)(i).⁴ On February 25, 2020, Commerce notified the U.S. International Trade Commission (ITC) that it did not receive a substantive response from respondent interested parties.⁵ In accordance with section 751(c)(3)(B) of the Act and 19 CFR 351.218(e)(1)(ii)(C)(2), Commerce conducted an expedited (120-day) sunset review of the Order on PC strand from India.

⁴ See Domestic Interested Parties' Letter, “Prestressed Concrete Steel Wire Strand from India Domestic Interested Parties' Substantive Response,” dated March 30, 2020.

⁵ See Commerce's Letter, “Sunset Review Initiated on March 2, 2020,” dated April 22, 2020.

Scope of the Order

The merchandise subject to this order is prestressed concrete steel wire (PC strand), which is steel strand produced from wire of non-stainless, non-galvanized steel, which is suitable for use in prestressed concrete (both pre-tensioned and post-tensioned) applications. The product definition encompasses covered and uncovered strand and all types, grades, and diameters of PC strand.

The merchandise under this order is currently classifiable under subheadings 7312.10.3010 and 7312.10.3012 of the Harmonized Tariff Schedule of the United States (HTSUS). Although the HTSUS subheadings are provided for convenience and customs purposes, the written description of the merchandise under investigation is dispositive.

Analysis of Comments Received

A complete discussion of all issues raised in this sunset review, including the likelihood of continuation or recurrence of countervailable subsidies and the net countervailable subsidy likely to prevail if the Order were revoked, is provided in the Issues and Decision Memorandum.⁶ A list of the topics discussed in the Issues and Decision Memorandum is attached as an appendix to this notice. The Issues and Decision Memorandum is a public document and is on file electronically via Enforcement and Compliance's Antidumping and Countervailing Duty Centralized Electronic Services System (ACCESS). ACCESS is available to registered users at https://access.trade.gov. In addition, a complete version of the Issues and Decision Memorandum can be accessed directly at https://enforcement.trade.gov/frn/. The signed and electronic versions of the Issues and Decision Memorandum are identical in content.

⁶ See Memorandum, “Issues and Decision Memorandum for the Final Results of the Expedited Third Sunset Review of the Countervailing Duty Order on Prestressed Concrete Steel Wire Strand from the India,” dated concurrently with, and hereby adopted by, this notice (Issues and Decision Memorandum).

Final Results of Sunset Review

Pursuant to sections 751(c)(1) and 752(b) of the Act, Commerce determines that revocation of the CVD Order on PC strand from India would be likely to lead to continuation or recurrence of countervailable subsidies at the following rate:

Producers/exporters | Net countervailable subsidy (percent)
All Manufacturers/Producers/Exporters | 62.92

Administrative Protective Order

This notice serves as the only reminder to parties subject to administrative protective order (APO) of their responsibility concerning the disposition of proprietary information disclosed under APO in accordance with 19 CFR 351.305. Timely written notification of the destruction of APO materials or conversion to judicial protective order is hereby requested. Failure to comply with the regulations and terms of an APO is a violation which is subject to sanction.

Notification to Interested Parties

Commerce is issuing and publishing the final results and notice in accordance with sections 751(c), 752(b), and 777(i)(1) of the Act, and 19 CFR 351.218.

Dated: June 23, 2020.
Jeffrey I. Kessler,
Assistant Secretary, for Enforcement and Compliance.

APPENDIX

List of Topics Discussed in the Issues and Decision Memorandum

I. Summary

II. Background

III. Scope of the Order

IV. History of the Order

V. Discussion of the Issues

1. Likelihood of Continuation or Recurrence of a Countervailable Subsidy

2. Net Countervailable Subsidy Likely to Prevail

3. Nature of the Subsidy

VI. Final Results of Sunset Review

VII. Recommendation

[FR Doc. 2020-13946 Filed 6-26-20; 8:45 am]

BILLING CODE 3510-DS-P